DEPARTMENT OF HOMELAND SECURITY

Federal Emergency Management Agency

[Docket ID FEMA-2013-0002]

Final Flood Hazard Determinations

AGENCY: Federal Emergency Management Agency, DHS.

ACTION: Final Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of September 18, 2013 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and ninety (90) days have elapsed since that publication. The Deputy Associate Adminstrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

Community | Community Map Repository Address
Fulton County, Georgia, and Incorporated Areas
Docket No.: FEMA-B-1241
City of Alpharetta | Engineering Office, 1790 Hembree Road, Alpharetta, GA 30009.
City of Atlanta | Office of Site Development, 55 Trinity Avenue, Suite 4400, Atlanta, GA 30303.
City of Chattahoochee Hills | City Hall, 6505 Rico Road, Chattahoochee Hills, GA 30268.
City of College Park | Office of Engineering, 3667 Main Street, College Park, GA 30337.
City of East Point | City Hall Annex, 1526 East Forrest Avenue, East Point, GA 30344.
City of Fairburn | City Hall, 56 Malone Street, Fairburn, GA 30213.
City of Hapeville | City Hall, 3468 North Fulton Avenue, Hapeville, GA 30354.
City of Johns Creek | City Hall, 12000 Findley Road, Suite 400, Johns Creek, GA 30097.
City of Milton | City Hall, 13000 Deerfield Parkway, Suite 107, Milton, GA 30004.
City of Mountain Park | City Hall, 118 Lakeshore Drive, Mountain Park, GA 30075.
City of Palmetto | City Hall, 509 Toombs Street, Palmetto, GA 30268.
City of Roswell | City Hall, 38 Hill Street, Suite 235, Roswell, GA 30075.
City of Sandy Springs | City Hall, 7840 Roswell Road, Building 500, Sandy Springs, GA 30350.
City of Union City | City Hall, 5047 Union Street, Union City, GA 30291.
Unincorporated Areas of Fulton County | Fulton County Office of Environmental and Commmunity Development, 141 Pryor Street, Suite 2085, Atlanta, GA 30303.
Kent County, Rhode Island (All Jurisdictions)
Docket No.: FEMA-B-1258
Town of East Greenwich | East Greenwich Department of Public Works, Building Department, 111 Pierce Street, East Greenwich, RI 02818.
City of Warwick | City of Warwick Planning Department, Warwick City Hall Annex Building, Second Floor, 3275 Post Road, Warwick, RI 02886.
Providence County, Rhode Island (All Jurisdictions)
Docket No.: FEMA-B-1258
City of Cranston | City Hall, 869 Park Avenue, Cranston, RI 02910.
City of East Providence | City Hall, 145 Taunton Avenue, East Providence, RI 02914.
City of Pawtucket | Department of Planning and Redevelopment, 175 Main Street, Third Floor, Pawtucket, RI 02860.
City of Providence | City Administration Building, 444 Westminster Street, First Floor, Providence, RI 02903.

(Catalog of Federal Domestic Assistance No. 97.022, “Flood Insurance.”)

Roy E. Wright,
Deputy Associate Administrator for Mitigation, Department of Homeland Security, Federal Emergency Management Agency.

[FR Doc. 2013-12014 Filed 5-20-13; 8:45 am]

BILLING CODE 9110-12-P